FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A&A Contract Customs Brokers, USA, Inc., dba A&A International Freight Forwarding (NVO & OFF), #2-12th Street, P.O. Box 4772, Blaine, WA 98230, Officers: Jodi D. Lefler, Vice President (QI), Graham S. Robins, President, Application Type: QI Change.

Black Pearl Int'l Freight Fwdg and CHB LLC (OFF), 20331 Anza Avenue, #2, Torrance, CA 90503, Officer: David M. Turner, CEO (QI), Application Type: New OFF License.

BP Harvest International LLC (NVO & OFF), 1735 Townsend Avenue, Store A, Bronx, NY 10453, Officers: Blado Y. Caimares Vega, Commerical Manager (QI), Rosa M. Fernandez, General Manager, Application Type: New NVO & OFF License.

Brownstone International Customs Brokerage & Compliance, Inc. (NVO & OFF), 6623 NE 78th Court, Suite B6, Portland, OR 97218, Officers: Michael S. Brown, President (QI), Hope M. Brown, CFO, Application Type: New NVO & OFF License.

C.E.I. Logistics, Inc. (NVO), 340 E. Maple Avenue, Suite 305, Langhorne, PA 19047, Officers: Robert M. Pfender, President (QI), Patricia A. Pfender, Vice President, Application Type: New NVO License.

C. H. Robinson International, Inc. dba C. H. Robinson Freight Services, Ltd., dba Christal Lines (NVO & OFF), 14701 Charlson Road, Suite 450, Eden Prairie, MN 55347, Officers: Emil R. Sanchez, Vice President (QI), Stephane Rambaud, CEO, Application Type: QI Change.

Comage Container Lines Inc. dba Assurance Global Logistics Group (NVO), 2112 Truscott Drive, Mississauga, Ontario L5J2A6 Canada, Officers: Joshua Kochath, Director (QI), Wilma Kochath, Vice President, Application Type: New NVO License.

Cur-Ant Transfer and Logistics Inc (NVO), 13644 SW 142th Avenue, Suite A & B, Miami, FL 33186, Officers: Deborah A. Jesurun, President (QI), Ivar A. Jesurun, Secretary, Application Type: New NVO License.

Deluxe Freight, Inc. (NVO), 11013 NW 30th Street, Suite 100, Doral, FL 33172, Officers: William Munoz, President (QI), William H. Girard, III, Vice President, Application Type: Business Structure Change to Deluxe Freight, LLC.

Demetrios Air Freight Company, Inc. dba Demetrios International Shipping, Company (NVO & OFF), 215 Salem Street, Woburn, MA 01801, Officers: Demetrios Tsiaousopoulos, President (QI), Mary Tsiaousopoulous, Secretary, Application Type: New NVO & OFF License.

Diana Shipping Line LLC (OFF), 333 Dominion Drive, Suite 1333, Katy, TX 77450, Officer: Diana Corona, Member (QI), Application Type: New OFF License.

Export Trade Service, Inc. dba Export Trade Service (NVO & OFF), 804 John Street, Dalton, GA 30721, Officers: Patricia A. Walls, President (QI), Linda Albertson, Vice President, Application Type: Change Trade Name to Export Trade Logistics and Add NVO Service.

Global Logistics Providers LLC (NVO), 37 Westminister Road, Stamford, CT 06902, Officers: Michael S. Chapell, President (QI), Ahsan Sawar, Manager, Application Type: New NVO License.

Hybrid Global Logistics Inc. (OFF), 57 Kara Lane, Feasterville, PA 19053, Officer: Joseph A. Cimino, President (QI), Application Type: New OFF License.

Incopro Corporation dba International Commerce and Projects (NVO & OFF), 10827 Tower Oaks Blvd., Houston, TX 77070, Officers: Steve Licursi, Senior Vice President (QI), Francisco Guzman, Jr., Application Type: QI Change.

Miac Logistics Corp. (OFF), 8300 SW 8th Street, Suite 104, Miami, FL 33144, Officers: Yelena Jimenez, Secretary (QI), Pedro Carrillo, President, Application Type: New OFF License.

Northstar Logistics LLC (NVO & OFF), 44330 Mercure Circle, Suite 120, Sterling, VA 20166, Officers: Mazen T. Farouki, Member (QI), Sari T. Farouki, Member, Application Type: New NVO & OFF License.

Perimeter International dba Perimeter Logistics (NVO & OFF), 2700 Sory Road West, Suite 150, Irving, TX 75038, Officers: Dennis Garcia, Assistant Secretary (QI), Merry L. Lamothe, President, Application Type: QI Change.

Polaris Development Corporation dba Polaris Worldwide Logistics (NVO & OFF), 6675 Amberton Drive, Suite 1, Elkridge, MD 21075, Officers: Mary E. Mullen, Vice President (QI), Ronald C. Brooks, President, Application Type: New NVO & OFF License.

RFC Logistics LLC dba RFC Logistics (OFF), 1749 NE Miami Court, Suite 204, Miami, FL 33132, Officer: Jennifer R. Ahrens, Manager (QI), Application Type: New OFF License.

Spartan Global Logistics LLC (NVO & OFF), 11323 Alcott Drive, Montgomery, TX 77356, Officer: Maureen Renaud, Member (QI), Application Type: New NVO & OFF License.

Streamline Trade Management Inc. (OFF), 138 Bay 53rd Street, 1st Floor, Brooklyn, NY 11214, Officer: Bo Yu Zheng, President (QI), Application Type: New OFF License.

Valley Cargo International Inc. (OFF), 2025 NW 102nd Avenue, Unit 109, Miami, FL 33172, Officers: Victor H. Sierra, Director (QI), Stella Rincon, Director, Application Type: QI Change.

WD Global Logistics Corp (NVO), 1515 Kona Drive, Compton, CA 90220, Officer: Woon Dong Huh, President (QI), Application Type: New NVO License.

XYZ Global Express Corp. (NVO), 1200F Woodruff Avenue, Suite #D, Downey, CA 90241, Officers: Benedict Simborio, Assistant Secretary (QI), Ian Hazel Co, CEO, Application Type: New NVO License.

Pursuant to the Commission's direct final rule (79 FR 56522), beginning October 20, 2014, these notices will no longer be posted in the Federal Register. After October 20, 2014, this information will be available on the Commission's Web site at http://www.fmc.gov.

By the Commission.
Dated: September 24, 2014.
Karen V. Gregory,
Secretary.

[FR Doc. 2014-23093 Filed 9-26-14; 8:45 am]

BILLING CODE 6730-01-P